DEPARTMENT OF COMMERCE

Foreign-Trade Zones Board

[Docket 63-2002]

Foreign-Trade Zone 38, Greenwood, SC, Expansion of Manufacturing Authority—Subzone 38C; Fuji Photo Film, Inc. (Addition of Medical Imaging Products, and Expansion of Production of Color Negative Photographic Film and Paper)

An application has been submitted to the Foreign-Trade Zones Board (the Board) by the South Carolina State Ports Authority, grantee of FTZ 38, requesting on behalf of Fuji Photo Film, Inc. (Fuji), to expand the scope of manufacturing authority under zone procedures within Subzone 38C, at the Fuji plant in Greenwood, South Carolina. The application was submitted pursuant to the Foreign-Trade Zones Act, as amended (19 U.S.C. 81a-81u), and the regulations of the Board (15 CFR part 400). It was formally filed on December 17, 2002.

Subzone 38C was approved by the Board in 2000 at a 488-acre site in Greenwood, South Carolina. Authority was granted for the the manufacture and distribution of imaging and information products (graphic arts film; pre-sensitized offset printing plates; blank videotapes and computer back-up tape; one-time-use cameras; and color negative photographic paper and film) (Board Order 1084, 65 FR 18283, April 7, 2000).

Fuji is now proposing to expand the scope of manufacturing activity conducted under zone procedures at Subzone 38C to include additional finished products (medical imaging products, components, and related products), and to increase the overall level of production authorized under FTZ procedures of color negative photographic paper and film. The new finished products have duty rates of 3.7% ad valorem. Foreign-sourced materials under the proposed expanded scope may include the following items: prepared glues and adhesives; photographic plates or film for X-ray; self-adhesive tape; silver laminated film; cardboard; paper laminated film; paper bags; printed labels; polyethylene bags; derivatives of anthraquinone, phenothiazine, anthrazine, phthalazine, phenol, triazole, triadiazole, benzoxazole, benzimidazole, and naphthoxazole; benzoquinone; hydrogen peroxide; silver salt of fatty acid; vinyl acetate copolymer; polymethyl methacrylate in gelatin solution; chromium compound; triethylamine; polyethylene terephthalate; benzimidazole; nipacide; dextrane; calcium chloride; paraffin wax; and ammonia solution. Duty rates on these materials range from duty-free to 8.7% ad valorem.

Expanded subzone authority would exempt Fuji from Customs duty payments on the aforementioned foreign components when used in export production. On its domestic sales, Fuji would be able to choose the lower duty rate that applies to the finished products for the foreign components, when applicable.

In accordance with the Board's regulations, a member of the FTZ Staff has been designated examiner to investigate the application and report to the Board.

Public comment is invited from interested parties. Submissions (original and 3 copies) shall be addressed to the Board's Executive Secretary at one of the following addresses:

1. Submissions via Express/Package Delivery Services: Foreign-Trade-Zones Board, U.S. Department of Commerce, Franklin Court Building—Suite 4100W, 1099 14th St. NW., Washington, DC 20005; or

2. Submissions via the U.S. Postal Service: Foreign-Trade-Zones Board, U.S. Department of Commerce, FCB—Suite 4100W, 1401 Constitution Ave. NW., Washington, DC 20230.

The closing period for their receipt is February 25, 2003. Rebuttal comments in response to material submitted during the foregoing period may be submitted during the subsequent 15-day period to March 12, 2003.

A copy of the application and accompanying exhibits will be available for public inspection at the Office of the Foreign-Trade Zones Board's Executive Secretary at address Number 1 listed above, and at the U.S. Department of Commerce Export Assistance Center, 555 North Pleasantburg Drive, Building 1, Suite 109, Greenville, SC 29607.

Dated: December 17, 2002.
Dennis Puccinelli,
Executive Secretary.

[FR Doc. 02-32726 Filed 12-26-02; 8:45 am]

BILLING CODE 3510-DS-P